DEPARTMENT OF THE INTERIOR

Bureau of Land Management

[WY-930-01-1060-JJ]

Notice of Intent To Remove Wild Horses From Public Lands and Notice of Public Hearing on the Use of Helicopters and Motor Vehicles in Wild Horse Removal Operations

AGENCY: Bureau of Land Management, Interior.

SUMMARY: The Wild, Free Roaming Horse and Burro Act, as amended (PL 92-195), provides, among other things, that excess wild horses shall be removed from public lands.

The Bureau of Land Management (BLM) plans to remove 225 horses from the Stewart Creek Herd Management Area (HMA) and the area outside HMA boundaries known as I-80 North Beginning February 15, 2002, and continuing through March 30, 2002. This will reduce the population in the Stewart Creek HMA to the Appropriate Management Level (AML).

The Wild, Free Roaming Horse and Burro Act also provides for the use of aircraft and motor vehicles in all phases of the administration of the Act. The Code of Federal Regulations, at 43 CFR 4740.1 provides (a) that the authorized officer conducts a public hearing in the area where such use is to be made.

The BLM has and plans to continue use of helicopters in the removal of wild, free roaming horses from the public lands within the Rawlins, Lander, Rock Springs, Cody, and Big Horn Basin Field Office jurisdictions in calender year 2002.

Pursuant to the requirements noted above, the BLM will conduct a public hearing on the use of helicopters and motor vehicles in gathering operations during the calendar year of 2002. The hearing will occur on Tuesday, February 12, 2002, at 3 p.m., in the large conference room of the Rock Springs Field Office of the Bureau of Land Management located at 280 Highway 191 North, Rock Springs, Wyoming.

DATES: Hearing Date: February 12, 2002. Roundup dates: March 1 through March 30, 2002.

ADDRESSES: The Helicopter Hearing will be held at the Rock Springs Field Office, 280 Highway 191 North, Rock Springs, Wyoming 82901.

FOR FURTHER INFORMATION CONTACT: State Director, Bureau of Land Management, P.O. Box 1828, Cheyenne, WY 82003-1828. Phone: (307) 775-6256.

Dated: January 14, 2002.
Alan R. Pierson,
State Director.

[FR Doc. 02-1486 Filed 1-18-02; 8:45 am]

BILLING CODE 4310-22-P